DEPARTMENT OF THE INTERIOR

National Park Service

[NPS-WASO-NPS0035983; 23XP103905—PPWONRADE2-PMP00EI05.YP0000]

Programmatic Environmental Assessment for Use of Electric Bicycles in the National Park System

AGENCY: National Park Service, Interior.

ACTION: Notice of availability; request for comment.

SUMMARY: The National Park Service (NPS) announces the availability of a programmatic environmental assessment (PEA) that evaluates, on a nationwide scale, use of electric bicycles (e-bikes) within the National Park System. We invite comments from the public and local, State, Tribal, and Federal agencies.

DATES: We will accept comments received or postmarked on or before 11:59 p.m. ET on July 21, 2023.

ADDRESSES:

Document availability: The PEA is available online at: https://parkplanning.nps.gov/e-bikes.

Comment Submission: You may submit written comments by one of the following methods:

• Electronically: https://parkplanning.nps.gov/e-bikes.

• Mail or hand deliver to: Electric Bicycle Programmatic EA, National Park Service, 1849 C Street NW, MS-2472 Washington, DC 20240.

Instructions: Comments will not be accepted by fax, email, or in any way other than those specified above. Comments delivered on external electronic storage devices (flash drives, compact discs, etc.) will not be accepted. Bulk comments in any format (hard copy or electronic) submitted on behalf of others will not be accepted.

FOR FURTHER INFORMATION CONTACT: Jay Calhoun, Chief, Division of Regulations, Jurisdiction, and Special Park Uses, National Park Service; waso_regulations@nps.gov; (202) 513-7112.

SUPPLEMENTARY INFORMATION: On December 2, 2020, the NPS promulgated a final rule (rule) governing use of e-bikes within the National Park System (85 FR 69175). On May 24, 2022, the U.S. District Court for the District of Columbia issued an opinion finding that the NPS had improperly relied upon a categorial exclusion to comply with the National Environmental Policy Act (NEPA) for the rule. The Court remanded the rule to the NPS and directed the NPS to conduct additional NEPA analysis for the rule. Pub Emps. For Env't Responsibility v. Nat'l Park Serv., 605 F. Supp. 3d 28 (D.D.C. 2022). The rule remains in place pending the outcome of the required NEPA analysis. The PEA has been prepared consistent with the Court's May 24, 2022 opinion.

The PEA evaluates the environmental impacts, on a nationwide scale, of a no-action alternative and the proposed action (the rule). The no-action alternative assumes that the rule has not been promulgated and that there is no nationwide policy about the use of e-bikes. Under the no-action alternative, superintendents would have no specific authority to allow e-bike use in System units and no policy direction about how to use existing authorities to manage e-bikes. This would result in inconsistent management of e-bikes use across the National Park System. In most System units, visitors would likely be allowed to use e-bikes on public roads and parking lots where motor vehicle use is allowed. In some System units, e-bike use also could occur on administrative roads and trails. Under the proposed action (the rule), e-bikes are defined uniformly and subject to a standard set of operating requirements, while superintendents have the discretion to allow e-bike use in National Park System units on a case-by-case basis, on public roads, parking lots, administrative roads, and trails where traditional bicycle use is allowed. The proposed action has been identified as the NPS preferred alternative. The PEA analyzes impacts to soils, vegetation, visitor use and experience, and wildlife.

Availability of Public Comments

You may submit comments by one of the methods shown under ADDRESSES. Before including your address, phone number, email address, or other personal identifying information in your comment, you should be aware that your entire comment, including the personal identifying information, may be made publicly available at any time. While you can ask us in your comment to withhold your personal identifying information from public review, we cannot guarantee we would be able to do so.

Lauren S. Imgrund,
Associate Director, Partnerships and Civic Engagement.

[FR Doc. 2023-13141 Filed 6-20-23; 8:45 am]

BILLING CODE 4312-52-P